DEPARTMENT OF ENERGY

Federal Energy Regulatory Commission

[Project No. 2652-007]

Notice of settlement Agreement and Soliciting Comments

November 22, 2002.

Take notice that the following Settlement Agreement has been filed with the Commission and is available for public inspection.

a. Type of Application: Settlement Agreement.

b. Project No.: 2652-007.

c. Date filed: November 12, 2002.

d. Applicant: PacifiCorp.

e. Name of Project: Bigfork Hydroelectric Project.

f. Location: On the Swan River, in the Town of Bigfork, Flathead County, Montana. The project does not occupy any federal or tribal lands.

g. Filed Pursuant to: Rule 602 of the Commission's Rules of Practice and Procedure, 18 CFR 385.602.

h. Applicant Contact: Dave Leonhardt, Project Manager, PacifiCorp, 825 NE.

Multnomah, Suite 1500, Portland, OR 97232; (503) 813-6658.

i. FERC Contact: Steve Hocking, (202) 502-8753, steve.hocking@ferc.gov

j. Deadline for filing comments:

December 12, 2002. Reply comments due December 23, 2002.

All documents (original and eight copies) should be filed with: Magalie R. Salas, Secretary, Federal Energy Regulatory Commission, 888 First Street, NE., Washington, DC 20426. Please affix Project No. 2652-007 to all comments. Comments may be filed electronically via the Internet in lieu of paper. The Commission strongly encourages electronic filings. See 18 CFR 385.2001(a)(1)(iii) and the instructions on the Commission's Web site http://www.ferc.gov under the “e-Filing” link.

The Commission's rules of practice require all intervenors filing documents with the Commission to serve a copy of that document on each person on the official service list for the project. Further, if an intervenor files comments or documents with the Commission relating to the merits of an issue that may affect the responsibilities of a particular resource agency, they must also serve a copy of the document on that resource agency.

k. Description of Filing: PacifiCorp filed the Settlement Agreement on behalf of itself and the National Park Service; Montana Department of Fish, Wildlife and Parks; Bigfork Area Chamber of Commerce; American Whitewater; Bigfork Whitewater Festival Organization; Bigfork Development Company; Flathead Lakers; and Flathead Whitewater Association. The purpose of the Settlement Agreement is to resolve among the signatories all recreation issues associated with relicensing the Bigfork Project. The signatories ask the Commission to accept and incorporate without modification the recreation measures set forth in Section 3 of the Settlement Agreement except for those measures not required for operation of the project or other project purposes.

l. A copy of the settlement agreement is available for review at the Commission in the Public Reference Room or may be viewed on the Commission's Web site at http://www.ferc.gov using the “FERRIS” link. Enter the docket number excluding the last three digits in the docket number field to access the document. For assistance, contact FERC Online Support at ferconlinesupport@ferc.gov or toll-free at (866) 208-3676, or for TTY, (202) 502-8659. A copy is also available for inspection and reproduction at the address in item h above.

Linwood A. Watson, Jr.,
Deputy Secretary.

[FR Doc. 02-30279 Filed 11-27-02; 8:45 am]

BILLING CODE 6717-01-P